PENSION BENEFIT GUARANTY CORPORATION

Submission of Information Collection for OMB Review; Comment Request; Survey of Frozen Defined Benefit Pension Plans

AGENCY: Pension Benefit Guaranty Corporation.

ACTION: Notice of request for OMB approval.

SUMMARY: The Pension Benefit Guaranty Corporation (“PBGC”) is requesting that the Office of Management and Budget (“OMB”) approve a new collection of information under the Paperwork Reduction Act. The purpose of the information collection, which will be conducted via a mail survey, is to help the PBGC assess the extent to which the plans it insures have been frozen, the intentions of the plans' sponsors regarding those frozen plans, and the extent to which plan sponsors are considering freezing plans that are not frozen. This notice informs the public of the PBGC's request and solicits public comment on the collection of information.

DATES: Comments should be submitted by December 8, 2004.

ADDRESSES: Comments should be mailed to the Office of Information and Regulatory Affairs of the Office of Management and Budget, Attention: Desk Officer for Pension Benefit Guaranty Corporation, Washington, DC 20503.

Copies of the request (including the collection of information) may be obtained by writing to the PBGC's Communications and Public Affairs Department, suite 240, 1200 K Street, NW., Washington, DC 20005-4026, or by visiting that office or calling 202-326-4040 during normal business hours. (TTY and TDD users may call the Federal relay service toll-free at 1-800-877-8339 and ask to be connected to 202-326-4040.)

FOR FURTHER INFORMATION CONTACT: James L. Beller, Attorney, Office of the General Counsel, PBGC, 1200 K Street, NW., Washington, DC 20005-4026; 202-326-4024. (TTY and TDD users may call the Federal relay service toll-free at 1-800-877-8339 and ask to be connected to 202-326-4024.)

SUPPLEMENTARY INFORMATION: The PBGC is requesting that OMB approve a mail survey designed to gather information about frozen defined benefit plans. Findings about these plans' characteristics, sponsor rationales for freezing these plans, sponsor intentions to either terminate or unfreeze these plans, and sponsor intentions to freeze plans that are not frozen will allow the PBGC to better forecast future trends in the plans it insures. In addition, the Government Accountability Office has recommended that the PBGC “conduct a pilot study to identify frozen [defined benefit] plans it insures and assess the usefulness of information on the characteristics and consequences of plan freezes.” This collection of information would address that recommendation.

Participation in this voluntary collection of information will put a slight burden on a very small percentage of the public. The PBGC estimates that there will be 750 respondents with an annual burden of approximately 188 hours and $5,200. An agency may not conduct or sponsor, and a person is not required to respond to, a collection of information unless it displays a currently valid OMB control number.

Issued in Washington, DC, this 3rd day of November 2004.
Stuart A. Sirkin,
Director, Corporate Policy and Research Department, Pension Benefit Guaranty Corporation.

[FR Doc. 04-24858 Filed 11-5-04; 8:45 am]

BILLING CODE 7708-01-P